DEPARTMENT OF JUSTICE

Notice of Lodging of Consent Decree Under the Comprehensive Environmental Response, Compensation, and Liability Act (CERCLA)

Notice is hereby given that on July, 13, 2012, a proposed Consent Decree in United States v. Alcoa Inc., et al., Civil Action No. 3:12-cv-00210, was lodged with the United States District Court for the Southern District of Texas.

This action pertains to the “Malone Services Company” Superfund Site in Texas City, Texas. The Consent Decree requires a group of 27 companies to clean up the Site and pay EPA $900,000 towards past and future costs. The cleanup will cost $56.4 million according to an estimate by the United States Environmental Protection Agency (EPA). Seventy-six entities, including the United States and the Texas Commission on Environmental Quality (TCEQ), are resolving their liability in the Consent Decree by paying cash to the group of 27 companies that will carry out the cleanup. The United States, which shipped 1.62% of the waste, will pay $1,490,029. TCEQ, which shipped 0.00545% of the waste, will contribute $6,766. EPA previously completed four rounds of administrative settlements with approximately 230 “de minimis” generators of waste.

The settlement also addresses natural resources damages. Under the Consent Decree, the federal and state natural resource trustees for the Site will receive a total of $3,109,000 to implement environmental restoration projects. (This amount also covers some assessment, planning, and oversight costs.) The trustees are the National Oceanic and Atmospheric Administration, the U.S. Department of the Interior represented by the U.S. Fish and Wildlife Service, TCEQ, the Texas Parks and Wildlife Department, and the Texas General Land Office.

For a period of thirty (30) days from the date of this publication the Department of Justice will receive comments relating to the Consent Decree. Comments should be addressed to the Principal Deputy Assistant Attorney General, Environment and Natural Resources Division, and either emailed to pubcomment-ees.enrd@usdoj.gov, or mailed to P.O. Box 7611, U.S. Department of Justice, Washington, DC 20044-7611, and should refer to United States v. Alcoa Inc., et al., D.J. Ref. No. 90-11-2-07465/4. Commenters may request an opportunity for a public meeting in the affected area, in accordance with Section 7003(d) of RCRA, 42 U.S.C. 6973(d).

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” EESCDCopy (EESCDCopy.ENRD@usdoj.gov), fax number (202) 514-0097, phone confirmation number (202) 514-5271. If requesting a full copy of the Consent Decree from the Consent Decree Library—including 105 pages of defendant signature pages and the 242-page Record of Decision for the Site (September 2009) — please enclose a check in the amount of $116.75 (25 cents per page reproduction cost) payable to the U.S. Treasury, or, if requesting by email or fax, please forward a check in that amount to the Consent Decree Library at the address given above. If requesting a copy of the proposed Consent Decree that includes neither the defendants' signature pages nor the appendix that is a copy of the Record of Decision for the Site, please enclose a check in the amount of $30.00 (25 cents per page reproduction cost) payable to the U.S. Treasury.

Maureen M. Katz,
Assistant Section Chief, Environmental Enforcement Section, Environment and Natural Resources Division.

[FR Doc. 2012-18191 Filed 7-25-12; 8:45 am]

BILLING CODE 4410-15-P